DEPARTMENT OF THE INTERIOR

National Park Service

Availability of Draft Wild and Scenic River Eligibility Report for the Westfield River, MA

AGENCY: National Park Service, Interior.

ACTION: Publication of draft report for public comment.

SUMMARY: The National Park Service is publishing for public review and comment a draft study report on designating additional miles to the Westfield River, Massachusetts, National Wild and Scenic River. The National Park Service has found that the Westfield River, Massachusetts (Upper East Branch and Tributaries: Drowned Land Brook; Center Brook; Windsor Jambs Brook—Towns of Savoy and Windsor; Headwater Tributaries of the West Branch: Shaker Mill Brook; Depot Brook; Savery Brook; Watson Brook; Center Pond Brook—Towns of Becket and Washington; Lower Middle Branch, East Branch and Main Stem—Town of Huntington) is eligible for the national system and is recommending that this section of the river be designated.

DATES: Submit comments on or before May 27, 2003.

ADDRESSES: Copies of the draft report are available for public inspection at: National Park Service, Boston Support Office, 15 State Street, Boston, MA 02109; National Park Service, 1201 Eye Street, NW., Washington, DC 20240-0001. Hours of availability are between 8:30 a.m. and 4:30 p.m., Monday through Friday, except holidays. Additional copies for review are located in the Huntington, Savoy, Washington, and Windsor Town Halls; during normal hours of operation. Copies of the draft report may be obtained from Jamie Fosburgh, National Park Service, Boston Support Office, 15 State Street, Boston, MA, 617-223-5191. The full draft report may be viewed at http://www.nps.gov/rivers.

Comments should be directed to the National Park Service, Boston Support Office, attention Jamie Fosburgh at the address above.

FOR FURTHER INFORMATION CONTACT: Jamie Fosburgh, National Park Service, Boston Support Office, 15 State Street, Boston, MA, 617-223-5191.

SUPPLEMENTARY INFORMATION: On April 26, 2002, Acting Governor Jane Swift of the Commonwealth of Massachusetts petitioned the Secretary of the Interior to extend the Westfield River's Wild and Scenic designation to include additional segments of the river and its headwaters (34.8 miles) under the National Wild and Scenic Rivers Act. The sections of river under consideration includes the Upper East Branch and Tributaries: Drowned Land Brook; Center Brook; Windsor Jambs Brook in the Towns of Savoy and Windsor; the Headwater Tributaries of the West Branch: Shaker Mill Brook; Depot Brook; Savery Brook; Watson Brook; Center Pond Brook in the Towns of Becket and Washington; and the Lower Middle Branch, East Branch and Main Stem in the Town of Huntington. Under section 2(a)(ii) of the National Wild and Scenic Rivers Act (Pub. L. 90-542, as amended), the Secretary has the authority to add a river to the National System at the request of a state, provided the state has met certain prior conditions and the river meets eligibility criteria, based upon an evaluation of natural and cultural resources.

These conditions are:

(1) The river must have been designated as a component of a states wild or scenic rivers system by, or pursuant to, an act of the legislature of that state.

(2) Management of the river must be administered by an agency or political subdivision of the state, except for those lands administered by an agency of the Federal government.

(3) The river meets National Wild and Scenic River eligibility criteria, that is, that the river is free-flowing and possesses one or more outstanding resources of significance to the region or nation.

(4) There must be effective mechanisms and regulations in place— local, state or federal—to provide for the long-term protection of those resources for which the river was deemed eligible.

Upon the request of a state governor to the Secretary of the Interior, the National Park Service, acting for the Secretary, undertakes an evaluation of the state's request.

As a result of the evaluation, the National Park Service has concluded that all requirements were fully met for the designation extension for the Westfield River.

The National Park Service recommends that the following segments of the Westfield River be classified as:

Wild: Shaker Mill Brook, approximately 2.6 miles from Brooker Hill Road in Becket to its headwaters.

Scenic: Upper East Branch, 6.6 miles from the Windsor/Cummington town line to its confluence; Upper East Branch Tributaries—Drowned Land Brook, 1.5 miles; Center Brook, 2.5 miles; and Windsor Jambs Brook, 1.3 miles; and Headwater Tributaries of the West Branch—Shaker Mill Brook, approximately 1.2 miles from Brooker Hill Road in Becket to its confluence; Depot Brook, 4.5 miles; Savery Brook, 2.9 miles; Watson Brook, 1.9 miles; Center Pond Brook, 1.6 miles from Center Pond to its confluence; and

Recreational: Lower Middle Branch, East Branch, and Main Stem, 3.2 miles in the Town of Huntington and the Upper East Branch, 5.0 miles from its confluence with Sykes Brook to its confluence with the West Branch.

Dated: February 6, 2003.
Fran P. Mainella,
Director, National Park Service.

[FR Doc. 03-8499 Filed 4-9-03; 8:45 am]

BILLING CODE 4310-70-P